OFFICE OF GOVERNMENT ETHICS

Privacy Act of 1974; Amendment to System of Records

AGENCY: Office of Government Ethics (OGE).

ACTION: Notice of Proposed New Routine Use in OGE/GOVT-1 System of Records.

SUMMARY: The U.S. Office of Government Ethics (OGE) proposes to add a new Routine Use to OGE/GOVT-1, Executive Branch Personnel Public Financial Disclosure Reports and Other Name-Retrieved Ethics Program Records. This action is necessary to comply with the requirements of the Privacy Act to publish in the Federal Register notice of the existence and character of records maintained by the agency (5 U.S.C. 552a(e)(4)). OGE last published OGE/GOVT-1 in 68 FR 3097-3109 (January 22, 2003), as corrected at 68 FR 24744 (May 8, 2003).

DATES: This action will be effective without further notice on June 1, 2011 unless comments received before this date would result in a contrary determination.

ADDRESSES: You may submit comments to OGE on this Privacy Act Notice by any of the following methods:

E-mail: usoge@oge.gov (Include reference to “Privacy Act New Routine Use Comment” in the subject line of the message).

Fax: 202-482-9237, Attention: Elaine Newton, Privacy Officer.

Mail, Hand Delivery/Courier: Office of Government Ethics, Suite 500, 1201 New York Avenue, NW., Washington, DC 20005-3917, Attention: Elaine Newton, Privacy Officer.

FOR FURTHER INFORMATION CONTACT: Ms. Newton at the Office of Government Ethics; telephone: 202-482-9265; TTY: 800-877-8339; FAX: 202-482-9237; E-mail: enewton@oge.gov.

SUPPLEMENTARY INFORMATION: In accordance with the Privacy Act of 1974, 5 U.S.C. 552(a), this document provides public notice that the OGE is proposing to adopt a new Routine Use (l.) in OGE/GOVT-1, Executive Branch Personnel Public Financial Disclosure Reports and Other Name-Retrieved Ethics Program Records. This addition will not affect any Privacy Act rights afforded individuals who are the subject of such records. The new Routine Use is being proposed to provide relevant and necessary information to Federal Government Web sites and to any person in support of the Ethics in Government Act of 1978, 5 U.S.C. app. 110; the conflicts of interest criminal statutes, 18 U.S.C. 202-209; the Standards of Ethical Conduct for Employees of the Executive Branch, 5 CFR part 2635; Memorandum on Transparency and Open Government, 74 FR 4685 (Jan. 26, 2009); and in support of this Administration's core principles of the business of government, transparency, participation, collaboration and innovation.

The system report, as required by 5 U.S.C. 552a(r), has been submitted to the Committee on Homeland Security and Governmental Affairs of the United States Senate, the Committee on Oversight and Government Reform of the House of Representatives and the Office of Management and Budget.

Routine Use (l.)

(l.) to disclose on the OGE Web site and to otherwise disclose to any person, including other departments and agencies, any written ethics agreements filed with the Office of Government Ethics, pursuant to 5 CFR 2634.803, by an individual nominated by the President to a position requiring Senate confirmation when the position also requires the individual to file a public financial disclosure report.

Approved: April 25, 2011.
Robert I. Cusick,
Director, Office of Government Ethics.

[FR Doc. 2011-10628 Filed 4-29-11; 8:45 am]

BILLING CODE 6345-03-P